DEPARTMENT OF STATE

[Delegation of Authority No. 472]

Delegation of Authority to the Director of the Foreign Service Institute Administration of the Advisory Committee on Historical Diplomatic Documentation (Foreign Relations of the United States Series)

By virtue of the authority vested in the Secretary of State, including Section 1 of the Department of State Basic Authorities Act, as amended (22 U.S.C. 2651a), and to the extent authorized by law, I hereby delegate to the Director, Foreign Service Institute, the authorities and functions related to the administration of the Advisory Committee on Historical Diplomatic Documentation, including submission of the Foreign Relations of the United States series, pursuant to 22 U.S.C. 4351 et seq.

The Secretary, the Deputy Secretary, and the Under Secretary and Deputy Under Secretary for Management may at any time exercise any authority or function delegated herein.

Section 5 of Delegation of Authority 193, dated January 7, 1992, is hereby rescinded.

This delegation of authority shall be published in the Federal Register.

Dated: June 10, 2019.
Michael R. Pompeo,
Secretary of State, Department of State.

[FR Doc. 2019-13037 Filed 6-18-19; 8:45 am]

BILLING CODE 4710-20-P